DEPARTMENT OF TRANSPORTATION

Federal Railroad Administration

[Docket No. FRA 2012-0006-N-5]

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking approval for the new Safety Appliance Standards Guidance Checklist form listed below. Before submitting information collection requirements (ICRs) for clearance by the Office of Management and Budget (OMB), FRA is required to solicit public comment on specific aspects of the activities identified below.

DATES: Comments must be received no later than August 13, 2012.

ADDRESSES: Submit written comments on any or all of the following proposed activities by mail to either: Mr. Robert Brogan, Office of Safety, Planning and Evaluation Division, RRS-21, Federal Railroad Administration, 1200 New Jersey Ave. SE., Mail Stop 25, Washington, DC 20590, or Ms. Kimberly Toone, Office of Information Technology, RAD-20, Federal Railroad Administration, 1200 New Jersey Ave. SE. Mail Stop 35, Washington, DC 20590. Commenters requesting FRA to acknowledge receipt of their respective comments must include a self-addressed stamped postcard stating, “Comments on OMB control number 2130-0565.” Alternatively, comments may be transmitted via facsimile to (202) 493-6216 or (202) 493-6479, or via email to Mr. Brogan at Robert.Brogan@dot.gov, or to Ms. Toone at Kimberly.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 21, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved ICRs that FRA will submit for clearance by OMB as required under the PRA:

Title: Safety Appliance Concern Recommendation Report; Safety Appliance Standards Guidance Checklist Forms.

OMB Control Number: 2130-0565.

Abstract: Sample car/locomotive inspections are performed as a courtesy to the car manufacturers to ensure that the equipment is built in accordance with all applicable Federal regulations and requirements. Car builders that desire to have FRA review their equipment for compliance with safety standards are to submit their safety appliance arrangement drawings, prints, etc., to the FRA Office of Safety Assurance and Compliance for review at least 60 days prior to construction. The sample car inspection program is designed to provide assurance that rolling stock equipment is compliant within the Code of Federal Regulations for use on the general railroad system. Although a sample car inspection is not required, most builders today request FRA to perform the inspection. The goal of the sample car inspection program is to reduce risk to railroad employees and improve passenger safety for the general public by ensuring rolling stock is fully compliant with all applicable regulations.

In an ongoing effort to conduct more thorough and more effective inspections of freight railroad equipment and to further enhance safe rail operations, FRA has developed a safety concern recommendation report form and a group of guidance checklist forms that facilitate railroad, rail car owner, and rail equipment manufacturer compliance with agency Railroad Safety Appliance Standards regulations. New form FRA F 6180.EZ is designed to reduce burden on respondents. When a request for sample car inspection incoming letter is provided by the customer, an abundant of amount of information is submitted to FRA for review that may require a formal on-site inspection. The information contained in the letter includes several paragraphs to explain the cited Code of Federal Regulations that the customer believes related to the construction of the car. Since many cars today are considered a car of special construction, the type of car to be reviewed, many times the amount of details of information are supplied to support why the customer believes the car submitted is the nearest car to construction. An abundance of factors with justification to support the car type is included in the request. Some examples would be a Logo, Company Name, and signature block, specific drawings, reflectorization, engineering information such as test or modeling of components. Also, the request may include car reporting marks, the amount of cars that would be constructed in the car series. In addition, the request would provide the location of the inspection, contact person, title, and contact information. Currently, each request is written differently, but contains most of the information to process the request to completion. The F6180.EZ Form provides specific blocks that contain a standardized format to provide specific information that is in an easy to fill-in the form arrangement. This would greatly reduce the amount of time to complete the form instead of a long form letter and additional sample car inspection request of similar car orders would be minimized by the information provided previously. By having a form of this nature, the customer will have the information visually that would be required, to eliminate the potential of missing information that then causes additional letters to complete the incoming package. FRA could potentially be able to provide a cursory review of the provided information to ensure the package is complete without having to constantly compare the request letter to the supplied documents.

The FRA region responsible for the sample car field sample car inspection is obliged to formally inspect the car for compliance. All the information in the customer request is forwarded to the region for review. Once the inspection is completed, the assigned inspector provides his report in a memorandum to the MP&E Specialist. The MP&E Specialist reviews the documents and provides a memo to the Regional Administrator who sends a response by memorandum to FRA Headquarters of the finding from the field inspection. The additional memorandums would be eliminated by the F6180.4 EZ just by a grid sign-off, reducing the amount of additional paperwork and filing documents.

FRA Headquarters is responsible for gathering all the information from the request from the customer as well as assigning and forwarding the information to the Region. All the information is reviewed by the MP&E Specialist at Headquarters. The MP&E Specialist prepares a grid letter response for the MP&E Staff Director who then offers the response letter to the Director, Office of Safety Assurance and Compliance. The formal response letter is then sent to the customer through the Control Correspondence Management (CCM) system. The filing system and folders today are already large in size, and would be reduced by having a form that is on one piece of paper with all the information necessary to complete the process from the initial request for sample car inspection to the formal response letter provided.

Form Number(s): New Form FRA F 6180.4EZ; current Forms FRA 6180.4(a)-(q).

Affected Public: Businesses.

Respondent Universe: 130 Federal and State Inspectors.

Frequency of Submission: Annually.

Reporting Burden
Form | Respondent universe | Total annual responses (forms) | Average time per response (minutes) | Total annual burden hours (hours)
New Form FRA F 6180.4EZ | 130 Federal and State Inspectors | 70 | 70 | 82
Current Form FRA F 6180.4a | 130 Federal and State Inspectors | 20 | 60 | 20
Current Form FRA F 6180.4b | 130 Federal and State Inspectors | 30 | 60 | 30
Current Form FRA F 6180.4c | 130 Federal and State Inspectors | 20 | 60 | 20
Current Form FRA F 6180.4d | 130 Federal and State Inspectors | 3 | 60 | 3
New Form FRA F 6180.4e | 130 Federal and State Inspectors | 15 | 60 | 15
New Form FRA F 6180.4f | 130 Federal and State Inspectors | 3 | 60 | 3
New Form FRA F 6180.4g | 130 Federal and State Inspectors | 30 | 60 | 30
New Form FRA F 6180.4h | 130 Federal and State Inspectors | 3 | 60 | 3
New Form FRA F 6180.4i | 130 Federal and State Inspectors | 3 | 60 | 3
New Form FRA F 6180.4j | 130 Federal and State Inspectors | 3 | 60 | 3
New Form FRA F 6180.4K | 130 Federal and State Inspectors | 10 | 60 | 10
New Form FRA F 6180.4l | 130 Federal and State Inspectors | 5 | 60 | 5
New Form FRA F 6180.4m | 130 Federal and State Inspectors | 7 | 60 | 7
New Form FRA F 6180.4p | 130 Federal and State Inspectors | 5 | 60 | 5
New Form FRA F 6180.4q | 130 Federal and State Inspectors | 5 | 60 | 5

Total Responses: 232.

Estimated Total Annual Burden: 244 hours.

Status: Revision of a Currently Approved Collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on June 6, 2012.
Rebecca Pennington,
Director, Office of Financial Management, Federal Railroad Administration.

[FR Doc. 2012-14286 Filed 6-11-12; 8:45 am]

BILLING CODE 4910-06-P